DEPARTMENT OF AGRICULTURE

Forest Service

Six Rivers National Forest, California, Trinity Summit Range Assessment Environmental Impact Statement

AGENCY: Forest Service, USDA.

ACTION: Notice of Intent to prepare an Environmental Impact Statement.

SUMMARY: The Six Rivers National Forest will prepare an Environmental Impact Statement (EIS) to disclose the impacts associated with the re-authorization of livestock grazing in the Trinity Summit area on the Lower Trinity Ranger District through an adaptive management process.

The planning area is located on National Forest System lands administered by the Lower Trinity Ranger District in Humboldt County, California within the upper Mill Creek and Tish Tang a Tang Creek watersheds to the east of Hoopa Valley Indian Reservation. Small portions of the planning area are located in the headwaters of Horse Linto Creek and Red Cap Creek. The majority of the grazing lands fall within the Trinity Wilderness and are considered to be culturally significant. The grazing lands are located in all or portions of T. 7 N., R. 6 E., R. 7 E.; T. 8 N., R. 5 E.; R. 6 E., R. 7 E.; and T. 9 N., R. 5 E., R. 6 E., R. 7 E.

DATES: Comments concerning the scope of the analysis must be received by May 28, 2013. The draft EIS is expected October 2013 and the final EIS is expected March 2014.

ADDRESSES: Send written comments to Carolyn Cook, Trinity Summit Range Assessment, Six Rivers National Forest, 1330 Bayshore Way, Eureka, CA 95501. Electronic comments, in acceptable plain text (.txt), rich text (.rtf), or Word (.doc) may be submitted to comments-pacificsouthwest-six-rivers-lower-trinity@fs.fed.us. Please ensure that “Trinity Summit Range Assessment” occurs in the subject line.

FOR FURTHER INFORMATION CONTACT: Nolan Colegrove, District Ranger, at 530-627-3291 or Carolyn Cook, Project Lead, at 707-441-3551. You may also access the scoping documents from the Forest's Web site at http://www.fs.fed.us/nepa/fs-usda-pop.php/?project=41307.

Individuals who use telecommunication devices for the deaf (TDD) may call the Federal Information Relay Service (FIRS) at 1-800-877-8339 between 8 a.m. and 8 p.m., Eastern Time, Monday through Friday.

SUPPLEMENTARY INFORMATION: The Mill Creek and Trinity Summit allotments occupy 13,128 and 20,325 acres respectively, are located adjacent to the eastern boundary of the Hoopa Valley Indian Reservation, and include portions of the Trinity Alps Wilderness Area. This region, known as the Trinity Summit area, is mostly above 5,000 feet in elevation. The majority of acreage in both allotments is dominated by coniferous forest vegetation. Shrublands also occupy significant portions of the allotments, especially in areas that were affected by the 1999 Megram Fire which burned a portion of each allotment at a high or moderate intensity. Although the majority of acreage within the analysis area is forested, herbaceous plant communities exist within forest openings near the headwaters of Horse Linto, Mill and Tish Tang creeks.

Purpose and Need for Action

The purpose and need for action centers on maintaining a grazing program under updated allotment management plans for the purposes of contributing to the economic stability of local livestock producers who rely on public lands grazing for their livelihood while sustainably managing for healthy rangeland ecosystems that maintain biologic diversity, wilderness characteristics, water quality, soil productivity, and quality fish and wildlife habitat; preserving and enhancing the character of culturally significant landscapes; and meeting the Rescissions Act of 1995, Public Law 104, as directed by Congress. The purpose of the Rescissions Act is to evaluate and analyze the re-authorization of grazing. As directed by the Six Rivers National Forest Land and Resource Management Plan (LRMP), the opportunity to graze must also be consistent with the values and uses of other resources. Rangelands, as well as all other resources within the grazing allotments, should be maintained in satisfactory condition. Because unsatisfactory resource conditions have been identified at monitoring sites within the allotments, action is required that will help restore satisfactory conditions. Restoration of satisfactory rangeland conditions is possible with adaptive management and grazing permit administration.

Proposed Action

The Six Rivers National Forest proposes to continue livestock grazing in the Trinity Summit area under the conditions described below and to implement boundary and administrative changes to facilitate improved management. The Mill Creek and Trinity Summit grazing allotments would be combined into a single allotment. A non-significant Forest Plan amendment is proposed to modify the allotment boundary to include a 225-acre area on the western boundary of the current allotment (T. 8 N., R 6 E. Section 3).This is an administrative adjustment to include an area that has been continuously grazed.

The Forest also proposes to re-authorize livestock grazing under existing permitted use through an adaptive management process. Adaptive management will meet LRMP goals, objectives, standards and guidelines, and other legal requirements while moving toward desired conditions.

Responsible Official

Tyrone Kelley, Forest Supervisor, Six Rivers National Forest, 1330 Bayshore Way, Eureka, CA 95501.

Nature of Decision To Be Made

The Responsible Official will decide whether to adopt and implement the proposed action, an alternative to the proposed action, or the no action (no grazing) alternative.

Scoping Process

This notice of intent initiates the scoping process, which guides the development of the EIS. No public meetings are planned during the scoping process, however, public meetings may be held in conjunction with the release of the draft EIS. In 2009, Six Rivers National Forest solicited comments on a proposed action for the same allotments (74 FR 18685); however the analysis was not completed. Today's proposed action was developed in response to changed conditions in the allotments and reflects known conditions through 2012.

It is important that reviewers provide their comments at such times and in such manner that they are useful to the Agency's preparation of the EIS. Therefore, comments should be provided prior to the close of the comment period and should clearly articulate the reviewer's concerns and contentions regarding the current proposed action.

Comments received in response to this solicitation, including names and addresses of those who comment, will be part of the public record for this proposed action. Comments submitted anonymously will be accepted and considered; however, anonymous comments will not provide the Agency with the ability to provide the respondent with subsequent environmental documents.

Dated: April 4, 2013.
Tyrone Kelley,
Forest Supervisor.

[FR Doc. 2013-08446 Filed 4-11-13; 8:45 am]

BILLING CODE 3410-11-P